DEPARTMENT OF ENERGY

Federal Energy Regulatory Commission

[Project No. 13135-004]

City of Watervliet; Notice of Application Tendered for Filing With the Commission and Soliciting Additional Study Requests

Take notice that the following hydroelectric application has been filed with the Commission and is available for public inspection.

a. Type of Application: License for Major Project-Existing Dam.

b. Project No.: P-13135-004.

c. Date filed: August 26, 2014.

d. Applicant: City of Watervliet, New York.

e. Name of Project: Delta Hydroelectric Project.

f. Location: On the East Branch of the Mohawk River, in the Town of Rome, Oneida County, NY. No federal lands are occupied by the project works or located within the project boundary.

g. Filed Pursuant to: Federal Power Act 16 U.S.C. 791 (a)-825(r).

h. Applicant Contact: Mr. Michael P. Manning, Mayor, City of Watervliet, City Hall, Watervliet, NY 12189, Phone: 518-270-3815, Email: mikemanning@watervliet.com; or Mark Gleason, General Manager, City of Watervliet, City Hall, Watervliet, NY 12189, Phone: 518-270-3800x122, Email: mgleason@watervliet.com; or Wendy Jo Carey, P.E., Albany Engineering Corporation, 5 Washington Square, Albany, NY 12205, Phone: 518-456-7712x401 Email: wendy@albanyengineering.com.

i. FERC Contact: Brandi Sangunett, Phone: (202) 502-8393, Email: brandi.sangunett@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: October 25, 2014.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13135-004.

m. The application is not ready for environmental analysis at this time.

n. The proposed project would consist of: (1) The existing 1,016-foot-long, 76-foot-high Delta dam, owned by the New York State Canal Corporation; (2) an existing impoundment having a surface area of 2,700 acres and a storage capacity of 63,200 acre-feet at the spillway crest elevation of 551.37 feet North American Vertical Datum of 1988; (3) a new 40-foot-diameter cylindrical powerhouse containing one turbine-generator unit with a total installed capacity of 7.4 megawatts; (4) a new 17,000-foot-long, 13.2-kilovolt underground generator lead; and (5) appurtenant facilities. The project would generate about 14,100 megawatt-hours of electricity annually.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule: The application will be processed according to the following preliminary Hydro Licensing Schedule. Revisions to the schedule will be made as appropriate.

Issue Acceptance or Deficiency Letter | October 2014
Request Additional Information | October 2014
Issue Notice of Acceptance | January 2015
Issue Scoping Document 1 for comments | February 2015
Comments on Scoping Document 1 | April 2015
Issue Scoping Document 2 | May 2015
Issue Notice of Ready for Environmental Analysis | May 2015
Commission issues EA | November 2015
Comments on EA | December 2015

Dated: September 5, 2014.
Kimberly D. Bose,
Secretary.

[FR Doc. 2014-21745 Filed 9-11-14; 8:45 am]

BILLING CODE 6717-01-P